DEPARTMENT OF AGRICULTURE

Agricultural Marketing Service

7 CFR Chapter IX

[Doc. No. AMS-SC-22-0051]

Nomenclature Changes; Technical Amendments

AGENCY: Agricultural Marketing Service, Department of Agriculture (USDA).

ACTION: Final rule; technical amendments.

SUMMARY: This rule revises the general regulations for Federal marketing orders covering fruits, vegetables, and specialty crops by updating the section regarding information collections. Further, this rule updates nomenclature in the general regulations, numerous Federal marketing orders, the import regulations, the domestic hemp program regulations, and the peanut handling regulations administered by the Agricultural Marketing Service (AMS). Finally, this rule corrects typographical errors found in the AMS marketing order and import regulations and removes regulations no longer in effect. These changes are necessary to provide more accurate information in the regulations moving forward.

DATES: Effective November 24, 2023.

FOR FURTHER INFORMATION CONTACT: Matthew Pavone, Branch Chief, Rulemaking Services Branch, or Andrew Hatch, Deputy Director of Operations, Market Development Division, Agricultural Marketing Service, USDA; phone: (202) 720-2491 or email: Matthew.Pavone@usda.gov or Andrew.Hatch@usda.gov.

SUPPLEMENTARY INFORMATION: This action, pursuant to 5 U.S.C. 553, makes updates and corrections to regulations issued to carry out marketing orders as defined in 7 CFR 900.2(j). This rule revises the General Regulations (7 CFR part 900) and the marketing orders in numerous other parts of chapter IX that regulate the handling of fruits, vegetables, nuts, and specialty crops (parts 905, 906, 915, 917, 920, 929, 930, 932, 945, 948, 955, 958, 959, 966, 981, 982, 983, 985, 987, 989, and 993) and imported products (parts 944, 980, and 999). These parts are effective under the Agricultural Marketing Agreement Act of 1937, as amended (7 U.S.C. 601-674), hereinafter referred to as the “Act.” In addition, this rule corrects typographical errors in the domestic hemp program regulations (part 990), which are effective under the Agricultural Marketing Act of 1946, as amended. Finally, this rule makes corrections to the peanut handling regulations (part 996), which are effective under Public Law 107-171, the Farm Security and Rural Investment Act of 2002, as amended (7 U.S.C. 7958).

This action falls within a category of regulatory actions that the Office of Management and Budget (OMB) exempted from Executive Order 12866 review. Additionally, AMS is issuing this final rule in conformance with Executive Orders 12988, 13175, and 13563.

Section 553(b)(3)(B) of the Administrative Procedure Act (APA), provides that, when an agency for good cause finds that notice and public procedure are impracticable, unnecessary, or contrary to the public interest, the agency may issue a rule without providing notice and an opportunity for public comment. AMS has determined that there is good cause for making this technical amendment final without prior proposal and opportunity for comment because the revisions are not substantive and will have no impact on the regulatory requirements in the affected parts. In addition, AMS has determined that public comment on such administrative changes is unnecessary and that there is good cause under the APA for proceeding with a final rule.

Further, because a notice of proposed rulemaking and opportunity for public comment is not required to be given for this rule under the APA or any other law, the analytical requirements of the Regulatory Flexibility Act (5 U.S.C. 601 et seq.) are not applicable. Accordingly, this rule is issued in final form.

Overview of Changes

This final rule makes technical amendments to regulations in 7 CFR parts 900, 905, 906, 915, 917, 920, 929, 930, 932, 944, 945, 948, 955, 958, 959, 966, 980, 981, 982, 983, 985, 987, 989, 990, 993, 996, and 999. USDA has determined that this action is only administrative in nature. This action updates the information collection provisions in § 900.601 to remove obsolete references and to align current Office of Management and Budget (OMB) control numbers and descriptions with the appropriate programs. This rule also revises outdated nomenclature in the general regulations pertaining to marketing agreements and marketing orders in 7 CFR part 900; in Federal marketing orders in 7 CFR parts 905, 915, 932, 945, 958, 966, 987, and 989; in the import regulations contained in 7 CFR parts 944, 980, and 999; and in the peanut handling regulations in 7 CFR part 996 to reflect current nomenclature. For example, the name of the Marketing Order and Agreement Division has been changed to Market Development Division, so references to the former name have been changed to reflect the current name. Additionally, this rule removes obsolete language and some regulatory sections (§§ 982.254 through 982.255; and §§ 985.234 through 985.236) that are no longer in effect. Lastly, this action corrects typographical errors throughout 7 CFR chapter IX. The final rule does not add to or amend any existing program requirements.

List of Subjects

7 CFR Part 900

Administrative practice and procedure, Freedom of information, Marketing agreements, Reporting and recordkeeping requirements.

7 CFR Part 905

Grapefruit, Marketing agreements, Oranges, Pummelos, Reporting and recordkeeping requirements, Tangelos, Tangerines.

7 CFR Part 906

Grapefruit, Marketing agreements, Oranges, Reporting and recordkeeping requirements.

7 CFR Part 915

Avocados, Marketing agreements, Reporting and recordkeeping requirements.

7 CFR Part 917

Marketing agreements, Peaches, Pears, Plums, Reporting and recordkeeping requirements.

7 CFR Part 920

Kiwifruit, Marketing agreements, Reporting and recordkeeping requirements.

7 CFR Part 929

Acreage allotments, Cranberries, Marketing agreements, Reporting and recordkeeping requirements.

7 CFR Part 930

Cherries, Marketing agreements, Reporting and recordkeeping requirements.

7 CFR Part 932

Marketing agreements, Olives, Reporting and recordkeeping requirements.

7 CFR Part 944

Avocados, Food grades and standards, Grapefruit, Grapes, Imports, Kiwifruit, Limes, Olives, Oranges, Plums, Prunes.

7 CFR Parts 945 and 948

Marketing agreements, Potatoes, Reporting and recordkeeping requirements.

7 CFR Part 955

Marketing agreements, Onions, Reporting and recordkeeping requirements.

7 CFR Part 958

Onions, Reporting and recordkeeping requirements.

7 CFR Part 959

Marketing agreements, Onions, Reporting and recordkeeping requirements.

7 CFR Part 966

Marketing agreements, Reporting and recordkeeping requirements, Tomatoes.

7 CFR Part 980

Food grades and standards, Imports, Marketing agreements, Onions, Potatoes, Tomatoes.

7 CFR Parts 981, 982, and 983

Marketing agreements, Nuts, Reporting and recordkeeping requirements.

7 CFR Part 985

Marketing agreements, Oils and fats, Reporting and recordkeeping requirements.

7 CFR Part 987

Dates, Marketing agreements, Reporting and recordkeeping requirements.

7 CFR Part 989

Grapes, Marketing agreements, Raisins, Reporting and recordkeeping requirements.

7 CFR Part 990

Administrative practice and procedure, Agricultural commodities, Drugs, Indians, Intergovernmental relations, Laboratories, License and registration, Marijuana, Penalties, Reporting and recordkeeping requirements.

7 CFR Part 993

Marketing agreements, Plums, Prunes, Reporting and recordkeeping requirements.

7 CFR Part 996

Food grades and standards, Marketing agreements, Peanuts, Reporting and recordkeeping requirements.

7 CFR Part 999

Dates, Food grades and standards, Imports, Nuts, Prunes, Raisins, Reporting and recordkeeping requirements.

For the reasons set forth in the preamble, AMS amends 7 CFR chapter IX as follows:

PART 900—GENERAL REGULATIONS

1. The authority citation for part 900 continues to read as follows:

Authority: 7 U.S.C. 601-674; 7 U.S.C. 7401; 5 U.S.C. 301, 552; and 44 U.S.C. Ch. 35.

§ 900.4 [Amended]

2. In § 900.4, in paragraph (b)(1)(iii), remove the word “ntoice” and add in its place the word “notice”.

§ 900.14 [Amended]

3. In § 900.14, in paragraph (e), remove the word “therof” and add in its place the word “thereof”.

§ 900.64 [Amended]

4. In § 900.64, in paragraph (c), remove the text “conclusions,and” and add in its place the text “conclusions, and”.

§ 900.101 [Amended]

5. In § 900.101, in paragraph (k), remove the word “Departent” and add in its place the word “Department”.

§ 900.211 [Amended]

6. In § 900.211, remove the word “wilfully” and add in its place the word “willfully”.

§ 900.305 [Amended]

7. In § 900.305, in paragraph (b)(2), remove the word “requries” and add in its place the word “requires”.

§ 900.353 [Amended]

8. In § 900.353, remove the word “coopertive” and add in its place the word “cooperative”.

§ 900.503 [Amended]

9. In § 900.503, in paragraph (c)(3), remove the word “discretinary” and add in its place the word “discretionary”.

10. In § 900.601, revise paragraph (b) to read as follows:

§ 900.601 OMB control numbers assigned pursuant to the Paperwork Reduction Act.

* * * * *

(b) Display.

Table 1 to Paragraph (b)
7 CFR part, where identified and described | Current OMB control No.
905, Florida Citrus | 0581-0189
906, Texas Citrus | 0581-0189
915, Florida Avocados | 0581-0189
920, California Kiwifruit | 0581-0189
922, Washington Apricots | 0581-0189
923, Washington Sweet Cherries | 0581-0189
925, California Desert Grapes | 0581-0189
927, Oregon & Washington Pears | 0581-0189
929, Cranberries | 0581-0189
930, Tart Cherries | 0581-0177
932, California Olives | 0581-0178
945, Idaho-Eastern Oregon Potatoes | 0581-0178
948, Colorado Potatoes | 0581-0178
955, Vidalia Onions | 0581-0178
956, Walla Walla Onions | 0581-0178
958, Idaho-Eastern Oregon Onions | 0581-0178
959, South Texas Onions | 0581-0178
966, Florida Tomatoes | 0581-0178
981, California Almonds | 0581-0178
981, California Almond Salmonella | 0581-0242
982, Oregon & Washington Hazelnuts | 0581-0178
983, Pistachios | 0581-0215
984, California Walnuts | 0581-0178
985, Far West Spearmint Oil | 0581-0178
986, Pecans | 0581-0291
987, California Dates | 0581-0178
989, California Raisins | 0581-0178
990, Domestic Hemp | 0581-0318
993, California Dried Prunes | 0581-0178

§ 900.700 [Amended]

11. In § 900.700, in paragraph (c)(1) introductory text, remove the text “FV-649” and add in its place the text “SC-649”.

PART 905—ORANGES, GRAPEFRIT, TANGERINES, AND PUMMELOS GROWN IN FLORIDA

12. The authority citation for part 905 continues to read as follows:

Authority: 7 U.S.C. 601-674.

§ 905.41 [Amended]

13. In § 905.41, in paragraph (c), remove the words “short term” and add in their place the word “short-term”.

§ 905.82 [Amended]

14. In § 905.82, remove the text “e.s.t.” and add in its place the text “Eastern Standard Time”.

15. In § 905.153, in paragraph (f), revise the second sentence to read as follows:

§ 905.153 Procedure for determining handlers' permitted quantities of red seedless grapefruit when a portion of sizes 48 and 56 of such variety is restricted.

* * * * *

(f) * * * Each new handler shall provide on a form furnished by the Committee the Florida citrus fruit dealer's license number, their Florida Department of Agriculture and Consumer Services, Division of Fruit and Vegetables, packinghouse registration number, and the physical location of the packinghouse where the red seedless grapefruit is to be prepared for market. * * *

§ 905.161 [Amended]

16. In § 905.161, in paragraph (c) introductory text, remove the words “not withstanding” and add in their place the word “notwithstanding”.

PART 906—ORANGES AND GRAPEFRUIT GROWN IN LOWER RIO GRANDE VALLEY IN TEXAS

17. The authority citation for part 906 continues to read as follows:

Authority: 7 U.S.C. 601-674.

§ 906.34 [Amended]

18. In § 906.34, in paragraph (d), remove the word “functining” and add in its place the word “functioning”.

§ 906.40 [Amended]

19. In § 906.40, in the introductory text, remove the word “rgulation” and adding in its place the word “regulation”.

PART 915—AVOCADOS GROWN IN SOUTH FLORIDA

20. The authority citation for part 915 continues to read as follows:

Authority: 7 U.S.C. 601—674.

§ 915.120 [Amended]

21. In § 915.120, in paragraphs (b) and (e), remove the word “avacados” wherever it occurs and add in its place the word “avocados”.

§ 915.305 [Amended]

22. In § 915.305, in paragraph (c), remove the text “20 bushel” and add in its place the text “20-bushel”.

23. In § 915.306, in paragraph (a)(5), revise the third sentence to read as follows:

§ 915.306 Florida avocado grade, pack, and container marking regulation.

(a) * * *

(5) * * * Only stamps and tape which have been approved by the Specialty Crops Inspection Division, Specialty Crops Program, Agricultural Marketing Service, U.S. Department of Agriculture, may be used for purposes of stamping and sealing containers to meet these requirements.

* * * * *

PART 917—FRESH PEARS AND PEACHES GROWN IN CALIFORNIA

24. The authority citation for part 917 continues to read as follows:

Authority: 7 U.S.C. 601—674.

§ 917.18 [Amended]

25. In § 917.18:

a. Lift the suspension of October 27, 2011;

b. In paragraph (a), remove the text “fruit.The” and “aforesaid.In” and add in their places the text “fruit. The” and “aforesaid. In”, respectively; and

c. Stay the section indefinitely.

§ 917.61 [Amended]

26. In § 917.61:

a. Lift the suspension of October 27, 2011;

b. In paragraph (c), remove the word “therof” and add in its place the word “thereof”; and

c. Stay the section indefinitely.

PART 920—KIWIFRUIT GROWN IN CALIFORNIA

27. The authority citation for part 920 continues to read as follows:

Authority: 7 U.S.C. 601—674.

§ 920.66 [Amended]

28. In § 920.66, remove the word “priviliges” and add in its place the word “privileges”.

PART 930—TART CHERRIES GROWN IN THE STATES OF MICHIGAN, NEW YORK, PENNSYLVANIA, OREGON, UTAH, WASHINGTON, AND WISCONSIN

29. The authority citation for part 930 continues to read as follows:

Authority: 7 U.S.C. 601—674.

§ 930.100 [Amended]

30. In § 930.100, in paragraph (c)(1), remove the text “200 acre” and add in its place the text “200-acre”.

§ 930.162 [Amended]

31. In § 930.162, in paragraphs (c)(1), (2), and (4), remove the text “short and long term” wherever it appears and add in its place the text “short- and long-term”.

PART 932—OLIVES GROWN IN CALIFORNIA

32. The authority citation for part 932 continues to read as follows:

Authority: 7 U.S.C. 601—674.

§ 932.35 [Amended]

33. In § 932.35, in paragraph (e), remove the word “chairman” and add in its place the word “chairperson”.

§ 932.36 [Amended]

34. In § 932.36, remove the word “chairman” and add in its place the word “chairperson”.

§ 932.37 [Amended]

35. In § 932.37, remove the word “chairman” and add in its place the word “chairperson”.

§ 932.39 [Amended]

36. In § 932.39, in paragraph (c), remove the word “presecribed” and add in its place the word “prescribed”.

§ 932.52 [Amended]

37. In § 932.52, in paragraph (b)(2), remove the words “Processed Products Branch” and add in their place the words “Specialty Crops Inspection Division”.

§ 932.53 [Amended]

38. In § 932.53, in paragraph (a), remove the words “Processed Products Branch” and add in their place the words “Specialty Crops Inspection Division”.

§ 932.139 [Amended]

39. In § 932.139, in paragraph (b), remove the text “30 day payment” and add in its place the text “30-day payment”.

§ 932.152 [Amended]

40. In § 932.152:

a. In paragraph (b), remove the words “Processed Products Branch (PPB)” and add in their place the words “Specialty Crops Inspection Division (SCI)”.; and

b. In paragraph (c)(1) introductory text, remove the words “work day” and add in their place the word “workday”.

§ 932.154 [Amended]

41. In § 932.154:

a. In paragraph (a), remove the word “transfering” and add in its place the word “transferring”; and

b. In paragraph (c), remove the words “Processed Products Branch” and add in their place the words “Specialty Crops Inspection Division”.

PART 944—FRUITS; IMPORT REGULATIONS

42. The authority citation for part 944 continues to read as follows:

Authority: 7 U.S.C. 601—674.

§ 944.28 [Amended]

43. In 944.28:

a. In paragraph (b), remove the text “Fruit and Vegetable Division” and add in its place the text “Specialty Crop Inspection Division”; and

b. In paragraph (c), remove the text “United States Customs Service” and add in its place “U.S. Customs and Border Protection”.

§ 944.31 [Amended]

44. In § 944.31:

a. In paragraph (c), remove the text “United States Customs Service” and add in its place “U.S. Customs and Border Protection”; and

b. In paragraph (e), remove the text “Fruit and Vegetable Division” and add in its place the text “Specialty Crop Inspection Division”.

§ 944.312 [Amended]

45. In § 944.312:

a. In paragraph (a), remove the word “parageaph” and add in its place the word “paragraph”;

b. In paragraph (c), remove the text “United States Customs Service” and add in its place “U.S. Customs and Border Protection”; and

c. In paragraph (f), remove the text “Fruit and Vegetable Division” and add in its place the text “Specialty Crop Inspection Division”.

46. Revise § 944.350 to read as follows:

§ 944.350 Safeguard procedures for avocados, grapefruit, kiwifruit, olives, oranges, prune variety plums (fresh prunes), and table grapes, exempt from grade, size, quality, and maturity requirements.

(a) Exempt use. Each person who imports or receives any of the commodities listed in paragraphs (a)(1) through (5) of this section shall file (electronically or paper) an “Importer's Exempt Commodity Form” (SC-6) with the Market Development Division, Specialty Crops Program, AMS, USDA. A “person who imports” may include a customs broker, acting as an importer's representative (hereinafter referred to as “importer”). A copy of the completed form (electronic or paper) shall be provided to the U.S. Customs and Border Protection. If a paper form is used, a copy of the form shall accompany the lot to the exempt outlet specified on the form. Any lot of any commodity offered for inspection and, all or a portion thereof, subsequently imported as exempt under this provision shall also be reported on an SC-6 form. Such form (electronic or paper) shall be provided to the Market Development Division in accordance with paragraph (d) of this section. The applicable commodities are:

(1) Avocados, grapefruit, kiwifruit, olives, oranges, prune variety plums (fresh prunes) and table grapes for consumption by charitable institutions or distribution by relief agencies;

(2) Avocados, grapefruit, kiwifruit, oranges, prune variety plums (fresh prunes), and table grapes for processing;

(3) Olives for processing into oil;

(4) Grapefruit for animal feed; or

(5) Avocados for seed.

(b) Certification of exempt use. (1) Each importer of an exempt commodity as specified in paragraph (a) of this section shall certify on the SC-6 form (electronic or paper) as to the intended exempt outlet (e.g., processing, charity, livestock feed). If certification is made using a paper SC-6 form, the importer shall provide a handwritten signature on the form.

(2) Each receiver of an exempt commodity as specified in paragraph (a) of this section shall also receive a copy of the associated SC-6 form (electronic or paper) filed by the importer. Within two days of receipt of the exempt lot, the receiver shall certify on the form (electronic or paper) that such lot has been received and will be utilized in the exempt outlet as certified by the importer. If certification is made using a paper SC-6 form, the receiver shall provide a handwritten signature on the form.

(c) Disposition. It is the responsibility of the importer to notify the Market Development Division of any lot of exempt commodity rejected by a receiver, shipped to an alternative exempt receiver, exported, or otherwise destroyed. In such cases, a second SC-6 form must be filed by the importer, providing sufficient information to determine ultimate disposition of the exempt lot, and such disposition shall be so certified by the final receiver.

(d) Filing. All SC-6 forms and other correspondence regarding entry of exempt commodities must be submitted electronically, by mail, or by fax to the Market Development Division, Specialty Crops Program, AMS, USDA, 1400 Independence Avenue SW, STOP 0237, Washington, DC 20250-0237; telephone (202) 720-2491; email ComplianceInfo@usda.gov; or fax (202) 720-5698.

§ 944.401 [Amended]

47. In § 944.401:

a. In paragraph (a)(6), remove the text “the U.S. Bureau of Customs” and add in its place “U.S. Customs and Border Protection”.

b. In paragraph (b)(12) introductory text, remove the word “limited-use” and add in its place the words “limited use”.

§ 944.503 [Amended]

48. In § 944.503, in paragraph (c), remove the text “United States Customs Service” and add in its place “U.S. Customs and Border Protection”.

§ 944.550 [Amended]

49. In § 944.550:

a. In paragraph (b), remove the text “Fruit and Vegetable Division” and add in its place the text “Specialty Crop Inspection Division”; and

b. In paragraph (c), remove the text “United States Customs Service” and add in its place “U.S. Customs and Border Protection”.

PART 945—IRISH POTATOES GROWN IN CERTAIN DESIGNATED COUNTIES IN IDAHO, AND MALHEUR COUNTY, OREGON

50. The authority citation for part 945 continues to read as follows:

Authority: 7 U.S.C. 601-674.

§ 945.42 [Amended]

51. In § 945.42, in paragraph (e), remove the words “short term” and add in their place the word “short-term”.

52. In § 945.341:

a. In paragraph (b)(3)(i), remove the word “complaince” and add in its place the word “compliance”; and

b. In paragraph (d)(2), remove the text “Fresh Products Branch, Fruit and Vegetable Division” and adding in its place “Specialty Crops Inspection Division, Specialty Crops Program”.

PART 948—IRISH POTATOES GROWN IN COLORADO

53. The authority citation for part 948 continues to read as follows:

Authority: 7 U.S.C. 601-674.

§ 948.51 [Amended]

54. In § 948.51, in the third sentence, remove the word “Committeemen” and add in its place the word “Committeepersons”.

§ 948.63 [Amended]

55. In § 948.63, in paragraph (a)(1), remove the words “chairman” and “officers' ” and add in their places the words “chairperson” and “officers”, respectively.

§ 948.142 [Amended]

56. In § 948.142, remove the words “one ach” and add in their place the words “on each”.

§ 948.386 [Amended]

57. In § 948.386, in the third sentence in paragraph (g), remove the word “extend” and add in its place the word “extent”.

PART 955—VIDALIA ONIONS GROWN IN GEORGIA

58. The authority citation for 7 CFR part 955 continues to read as follows:

Authority: 7 U.S.C. 601-674.

§ 955.4 [Amended]

59. In § 955.4, in the last sentence, remove the word “Truetlen” and add in its place the word “Treutlen”.

§ 955.42 [Amended]

60. In § 955.42, in paragraph (e), remove the word “seasons's” and add in its place the word “season's”.

PART 958—ONIONS GROWN IN CERTAIN DESIGNATED COUNTIES IN IDAHO, AND MALHEUR COUNTRY, OREGON

61. The authority citation for part 958 continues to read as follows:

Authority: 7 U.S.C. 601-674.

§ 958.27 [Amended]

62. In § 958.27, in the “District No. 6” paragraph in paragraph (a), remove the word “Meredian” and add in its place the word “Meridian”.

§ 958.86 [Amended]

63. In § 958.86, remove the word “wilful” and add in its place the word “willful”.

§ 958.91 [Amended]

64. In § 958.91, in the first paragraph of the agreement, remove the text “Fruit and Vegetable Division” and add in its place the text “Market Development Division, Specialty Crops Program”.

PART 959—ONIONS GROWN IN SOUTH TEXAS

65. The authority citation for part 959 continues to read as follows:

Authority: 7 U.S.C. 601-674.

§ 959.4 [Amended]

66. In § 959.4, remove the word “De Witt” and add in its place the word “DeWitt”.

§ 959.24 [Amended]

67. In § 959.24, in paragraph (b), remove the words “Jim Hogg De Witt” and add in its place “Jim Hogg, DeWitt”.

PART 966—TOMATOES GROWN IN FLORIDA

68. The authority citation for part 966 continues to read as follows:

Authority: 7 U.S.C. 601-674.

§ 966.323 [Amended]

69. In § 966.323:

a. In paragraph (d)(1), remove the word “cerasiform” and add in its place the word “cerasiforme”; and

b. In paragraph (d)(5), remove the text “Fresh Products Branch, Fruit and Vegetable Programs” and add in its place the text “Specialty Crops Inspection Division, Specialty Crops Program”.

PART 980—VEGETABLES; IMPORT REGULATIONS

70. The authority citation for part 980 continues to read as follows:

Authority: 7 U.S.C. 601-674.

§ 980.1 [Amended]

71. In § 980.1:

a. In paragraph (b)(1), remove the text “Area II” and add in its place the text “Area 2”;

b. In paragraph (g)(1)(ii), remove the text “Marketing Order and Agreement Division” and add in its place the text “Market Development Division”, and remove the text “8eImports@ams.usda.gov” and add in its place “ComplianceInfo@usda.gov;” and

c. In paragraph (i)(2), remove the text “the U.S. Customs Service” and add in its place “U.S. Customs and Border Protection”.

§ 980.117 [Amended]

72. In § 980.117:

a. In paragraph (d), remove the word “supercede” and add in its place the word “supersede”; and

b. In paragraph (f)(3), remove the text “Marketing Order and Agreement Division” and add in its place the text “Market Development Division”, and remove the text “8eImports@ams.usda.gov” and add in its place “ComplianceInfo@usda.gov”.

§ 980.212 [Amended]

73. In § 980.212:

a. In paragraph (b)(1), remove the text “Fresh Products Branch, Fruit and Vegetable Programs” and add in its place the text “Specialty Crop Inspection Division, Specialty Crops Program”;

b. In paragraph (f)(3), remove the text “Marketing Order and Agreement Division” and add it its place the text “Market Development Division”, and remove the text “8eImports@ams.usda.gov” and add in its place “ComplianceInfo@usda.gov”; and

c. In paragraph (h), remove the text “the United States Bureau of Customs” and add in its place “U.S. Customs and Border Protection”, and remove the word “cerasiform” and add in its place the word “cerasiforme”.

74. Revise § 980.501 to read as follows:

§ 980.501 Safeguard procedures for potatoes, onions, and tomatoes exempt from grade, size, quality, and maturity requirements.

(a) Exempt use. Each person who imports or receives any of the commodities listed in paragraphs (a)(1) through (5) of this section shall file (electronically or paper) an “Importer's Exempt Commodity Form” (SC-6) with the Market Development Division, Specialty Crops Program, AMS, USDA. A “person who imports” may include a customs broker, acting as an importer's representative (hereinafter referred to as “importer”). A copy of the completed form (electronic or paper) shall be provided to the U.S. Customs and Border Protection. If a paper form is used, a copy of the form shall accompany the lot to the exempt outlet specified on the form. Any lot of any commodity offered for inspection and, all or a portion thereof, subsequently imported as exempt under this provision shall also be reported on an SC-6 form. Such form (electronic or paper) shall be provided to the Market Development Division in accordance with paragraph (d) of this section. The applicable commodities are:

(1) Potatoes, onions or tomatoes for consumption by charitable institutions or distribution by relief agencies;

(2) Potatoes, onions, or tomatoes for processing;

(3) Potatoes or onions for livestock feed; or

(4) Pearl onions; or

(5) Tomatoes to be used in noncommercial outlets for experimental

(b) Certification of exempt use. (1) Each importer of an exempt commodity as specified in paragraph (a) of this section shall certify on the SC-6 form (electronic or paper) as to the intended exempt outlet (e.g., processing, charity, livestock feed). If certification is made using a paper SC-6 form, the importer shall provide a handwritten signature on the form.

(2) Each receiver of an exempt commodity as specified in paragraph (a) of this section shall also receive a copy of the associated SC-6 form (electronic or paper) filed by the importer. Within two days of receipt of the exempt lot, the receiver shall certify on the form (electronic or paper) to the Market Development Division that such lot has been received and will be utilized in the exempt outlet as certified by the importer. If certification is made using a paper SC-6 form, the receiver shall provide a handwritten signature on the form.

(c) Disposition. It is the responsibility of the importer to notify the Market Development Division of any lot of exempt commodity rejected by a receiver, shipped to an alternative exempt receiver, returned to the country of origin, or otherwise disposed of. In such cases, a second SC-6 form must be filed by the importer, providing sufficient information to determine ultimate disposition of the exempt lot, and such disposition shall be so certified by the final receiver.

(d) Filing. All SC-6 forms and other correspondence regarding entry of exempt commodities must be submitted electronically, by mail, or by fax to the Market Development Division, Specialty Crops Program, AMS, USDA, 1400 Independence Avenue SW, STOP 0237, Washington, DC 20250-0237; telephone (202) 720-2491; email ComplianceInfo@usda.gov; or fax (202) 720-5698.

PART 981—ALMONDS GROWN IN CALIFORNIA

75. The authority citation for part 981 continues to read as follows:

Authority: 7 U.S.C. 601-674.

§ 981.19 [Amended]

76. In § 981.19, remove the text “twelve month” and add in its place the word “twelve-month”.

§ 981.21 [Amended]

77. In § 981.21, remove the word “kernelweight” and add in its place the words “kernel weight”.

§ 981.33 [Amended]

78. In § 981.33, in paragraph (c), remove the text “three year” and add in its place the word “three-year”.

§ 981.61 [Amended]

79. In § 981.61, in paragraph (a), remove the work `kernelweight” and add in its place the words “kernel weight”.

§ 981.70 [Amended]

80. In § 981.70, in the last sentence, remove the word “insure” and add in its place the word “ensure”.

§ 981.442 [Amended]

81. In § 981.442, in paragraph (a)(5), remove the text “50 percent requirement” and add in its place “50-percent requirement”.

§ 981.467 [Amended]

82. In § 981.467:

a. In the first sentence in paragraph(b), remove the word “quanity” and add in its place the word “quantity”; and

b. Remove paragraphs (c) and (d).

§ 981.481 [Amended]

83. In § 981.481, in the last sentence in paragraph (a), remove the text “a half” and add in its place the text “one-half”.

PART 982—HAZELNUTS GROWN IN OREGON AND WASHINGTON

84. The authority citation for part 982 continues to read as follows:

Authority: 7 U.S.C. 601-674.

85. Revise the undesignated center heading following § 982.20 to read as follows:

Hazelnut Marketing Board

§ 982.33 [Amended]

86. In § 982.33, in paragraph (b), remove the text “beginning with the 1996-97 marketing year,”.

§ 982.53 [Amended]

87. In § 982.53, remove the word “insure” and add in its place the word “ensure”.

Subpart C [Removed and Reserved]

88. Remove and reserve subpart C, consisting of §§ 982.254 and 982.255.

PART 983—PISTACHIOS GROWN IN CALIFORNIA, ARIZONA, AND NEW MEXICO

89. The authority citation for part 983 continues to read as follows:

Authority: 7 U.S.C. 601-674.

§ 983.92 [Amended]

90. In § 983.92, remove the text “5,000 pound quantity” and add in its place the text “5,000-pound quantity”.

PART 985—MARKETING ORDER REGULATING THE HANDLING OF SPEARMINT OIL PRODUCED IN THE FAR WEST

91. The authority citation for part 985 continues to read as follows:

Authority: 7 U.S.C. 601-674.

§ 985.154 [Amended]

92. In § 985.154, in paragraph (b), remove the word “insure” and add in its place the word “ensure”.

PART 987—DOMESTIC DATES PRODUCED OR PACKED IN RIVERSIDE COUNTY, CALIFORNIA

93. The authority citation for part 987 continues to read as follows:

Authority: 7 U.S.C. 601-674.

§ 987.12 [Amended]

94. In § 987.12, in paragraph (c), remove the word “exeption” and add in its place the word “exception”.

§ 987.41 [Amended]

95. In § 987.41, in paragraph (c), remove the text “Processed Products Standardization and Inspection Branch” and add in its place the text “Specialty Crop Inspection Division”.

§ 987.112 [Amended]

96. In § 987.112:

a. In paragraph (a), remove the word “shiped” and add in its place the word “shipped”; and

b. In paragraph (d), remove the word “fieldrun” and add in its place the word “field-run”.

§ 987.112a [Amended]

97. In § 987.112a:

a. In paragraph (b)(2), remove the text “semi-dry of dry” and add in its place the text “semi-dry or dry” and remove the text “, except beginning February 21, 1997, and ending October 31, 1997, the 10 percent tolerance shall be increased to 15 percent”;

b. In paragraph (c)(2), remove the text “, except beginning February 21, 1997, and ending October 31, 1997, the 10 percent tolerance shall be increased to 15 percent”; and

c. In the last sentence in paragraph (d)(3), remove the word “excercise” and add in its place the word “exercise”.

§ 987.145 [Amended]

98. In § 987.145, in the first sentence in paragraph (b)(2), remove the word “credited” and add in its place the word “Credited” and remove the word “exceds” and add in its place the word “exceeds”.

§ 987.172 [Amended]

99. In § 987.172, in paragraph (b), remove the text “one half” and add in its place the text “one-half”.

PART 989—RAISINS PRODUCED FROM GRAPES GROWN IN CALIFORNIA

100. The authority citation for part 989 continues to read as follows:

Authority: 7 U.S.C. 601-674.

§ 989.58 [Amended]

101. In § 989.58, in paragraph (e)(5), remove the word “insure” and add in its place the word “ensure”.

§ 989.159 [Amended]

102. In § 989.159, in paragraph (c)(2), remove the text “FV 146” wherever it appears and add in its place the text “SC-146”.

PART 990—DOMESTIC HEMP PRODUCTION PROGRAM

103. The authority citation for part 990 continues to read as follows:

Authority: 7 U.S.C. 1639o note, 1639p, 1639q, 1639r.

§ 990.1 [Amended]

104. In § 990.1, in the definition of “USDA licensee”, remove the word “planto” and add in its place the words “plan to”.

§ 990.3 [Amended]

105. In § 990.3, in paragraph (a)(2)(iii)(B) introductory text, removed the word “cannabisplant” and add in its place the words “cannabis plant”.

PART 993—DRIED PRUNES PRODUCED IN CALIFORNIA

106. The authority citation for part 993 continues to read as follows:

Authority: 7 U.S.C. 601-674.

§ 993.49 [Amended]

107. In § 993.49:

a. Lift the suspension of May 27, 2005;

b. In paragraph (b), remove the word “resepct” and add in its place the word “respect”; and

c. Stay the section indefinitely.

§ 993.50 [Amended]

108. In § 993.50:

a. Lift the suspension of May 27, 2005;

b. In the fifth sentence in paragraph (g), remove the word “insure” and add in its place the word “ensure”; and

c. Stay the section indefinitely.

§ 993.56 [Amended]

109. In § 993.56:

a. Lift the suspension of May 27, 2005;

b. In the second and third sentences, remove the word “setaside” and add in its place the word “set-aside”; and

c. Stay the section indefinitely.

§ 993.149 [Amended]

110. In § 993.149:

a. Lift the suspension of May 27, 2005;

b. In paragraph (c)(2)(vii), remove the word “offgrade” and add in its place the word “off-grade”; and

c. Stay the section indefinitely.

§ 993.162 [Amended]

111. In § 993.162:

a. Lift the suspension of May 27, 2005;

b. In paragraph (b)(3), remove the word “he” and add in its place the word “the”; and

c. Stay the section indefinitely.

§ 993.515 [Amended]

112. In § 993.515:

a. Lift the suspension of May 27, 2005;

b. In paragraph (b) introductory text, remove the word “nonmenclature” and add in its place the word “nomenclature”; and

c. Stay the section indefinitely.

PART 996—MINIMUM QUALITY AND HANDLING STANDARDS FOR DOMESTIC AND IMPORTED PEANUTS MARKETED IN THE UNITED STATES

113. The authority citation for part 996 continues to read as follows:

Authority: 7 U.S.C. 7958.

§ 996.71 [Amended]

114. In § 996.71, in paragraph (b), remove the text “Southeast Marketing Field Office, Marketing Order and Agreement Division” and add in its place the text “Southeast Region Branch, Market Development Division”.

PART 999—SPECIALTY CROPS; IMPORT REGULATIONS

115. The authority citation for part 999 continues to read as follows:

Authority: 7 U.S.C. 601-674.

§ 999.1 [Amended]

116. In § 999.1, in paragraph (a)(7), remove the text “Fruit and Vegetable Program” and add in its place “Specialty Crops Program”.

§ 999.100 [Amended]

117. In § 999.100:

a. In paragraph (a)(5), remove the text “Fresh Products Standardization and Inspection Branch of the Fruit and Vegetable Division, Consumer and Marketing Service” and add in its place “Specialty Crops Inspection Division, Specialty Crops Program, Agricultural Marketing Service”;

b. In paragraph (a)(6), remove the text “United States Customs Service” and add in its place “U.S. Customs and Border Protection”; and

c. In paragraph (b)(2), remove the text “effective January 25, 1959”.

118. In § 999.200:

a. Lift the suspension of January 16, 2009;

b. Revise paragraphs (a)(10) through (12);

c. In paragraph (b)(5), remove the text “Form FV-6” and add in its place the text “Form SC-6”;

d. Revise paragraph (e)(1);

e. In paragraph (e)(2), remove the text “Form FV-6” and add in its place the text “Form SC-6”; and

f. Stay the section indefinitely.

The revisions read as follows.

§ 999.200 Regulation governing the importation of prunes.

(a) * * *

(10) Specialty Crops Program means the Specialty Crops Program of the Agricultural Marketing Service, U.S. Department of Agriculture, Washington, DC 20250.

(11) USDA inspector means an inspector of the Specialty Crops Inspection Division, Specialty Crops Program, or any other duly authorized employee of the USDA.

(12) Importation means release from custody of U.S. Customs and Border Protection.

* * * * *

(e) * * *

(1) General. Prior to importation of any prunes, the person importing such prunes shall file an inspection certificate with the Collector of Customs at the port at which the customs entry is filed. In addition, if such prunes are manufacturing grade substandard prunes, such person shall also file with the Collector of Customs an executed Form SC-6—`Importer's Exempt Commodity Form.' Promptly after such filing, such person shall transmit a copy of this form to the Specialty Crops Program. No person may import, sell, or use any manufacturing grade substandard prunes other than for use as set forth in paragraph (b)(5) of this section. Each person importing manufacturing grade substandard prunes shall obtain from each purchaser, no later than the time of delivery to such purchaser, and file with the Specialty Crops Program not later than the 5th day of the month following the month in which the prunes were delivered, an executed Form SC-6—`Importer's Exempt Commodity Form.' One copy of this executed form shall be retained by the importer and one copy shall be retained by the purchaser.

* * * * *

§ 999.300 [Amended]

119. In § 999.300, in paragraph (a)(5), remove the text “Fruit and Vegetable Program” and add in its place the text “Specialty Crops Program”.

§ 999.400 [Amended]

120. In § 999.400:

a. In paragraph (a)(5), remove the text “Food Safety and Quality Service” and add in its place “Specialty Crops Inspection Division, Specialty Crops Program”; and

b. In paragraph (a)(6), remove the text “United States Bureau of Customs” and add in its place “U.S. Customs and Border Protection”.

121. In § 999.500:

a. In paragraph (a) introductory text wherever it appears, remove the text “Marketing Order and Agreement Division” and add in its place the text “Market Development Division”;

b. Remove the text “FV-6” wherever it appears and add in its place the text “SC-6”; and

c. Revise paragraphs (c) and (d).

The revisions read as follows.

§ 999.500 Safeguard procedures for walnuts, dates, pistachios, and raisins exempt from grade, size, quality, and maturity requirements.

* * * * *

(c) It is the responsibility of the importer to notify the Market Development Division of any lot of exempt commodity rejected by a receiver, shipped to an alternative exempt receiver, exported, or otherwise disposed of. In such cases, a second SC-6 form must be filed by the importer, providing sufficient information to determine ultimate disposition of the exempt lot, and such disposition shall be so certified by the final receiver.

(d) All SC-6 forms and other correspondence regarding entry of exempt commodities must be submitted electronically, by mail, or by fax to the Market Development Division, Specialty Crops Program, AMS, USDA, 1400 Independence Avenue SW, STOP 0237, Washington, DC 20250-0237; telephone (202) 720-2491; email ComplianceInfo@usda.gov; or fax (202) 720-5698.

§ 999.600 [Amended]

122. In § 999.600:

a. In paragraph (a)(8) remove the text “Federal Inspection Service, Fruit and Vegetable Programs” and add in its place “Specialty Crops Inspection Division, Specialty Crops Program”; and

b. In paragraph (h), remove the text “Marketing Order and Agreement Division” and add in its place “Market Development Division”.

Erin Morris,
Associate Administrator, Agricultural Marketing Service.

[FR Doc. 2023-25238 Filed 11-22-23; 8:45 am]

BILLING CODE P